DEPARTMENT OF HEALTH AND HUMAN SERVICES

Centers for Disease Control and Prevention

[Program Announcement 02060]

National Cancer Prevention and Control Program; Notice of Availability of Funds; Amendment 3

A notice announcing the availability of fiscal year (FY) 2002 funds for cooperative agreements for the National Cancer Prevention and Control Program (NCPCP) was published in the Federal Register April 23, 2002, Volume 67, Number 78, pages 19932-19950. The notice is amended as follows:

Page 19937, section G.4.a.(5)(f), second column, last paragraph, replace “Attachment B—Workplan Template” with “Attachment A—Workplan Template & Definitions”.

Page 19940, section H.3.a.(3), third column, replace “Attachment C” with “Attachment B”.

Page 19941, section H.4.a., third column, first full paragraph, replace “Attachment D” with “Attachment C”.

Page 19941, section H.4.a., third column, second full paragraph, replace “Attachment E” with “Attachment D”.

Page 19941, section H.4.a.(5)(a)[1], third column, delete “two business meetings” and place with “one business meeting”.

Page 19941, section H.4.a.(5)(a)[3], third column, delete “up to two regional training opportunities.” And replace with “two CDC-sponsored workshops/trainings/meetings (2-3 days).”

Page 19942, section H.4., first column, third paragraph after section H.4.a.(5)(a)[4], delete the following: ‘The applicant should submit a completed Screening and Diagnostic Worksheet (Attachment F— “Screening and Diagnostic Worksheet” in the appendices) which is used to estimate the amount of funding needed to reimburse providers for allowable clinical services provided to eligible women served in your program. Further information about the Screening and Diagnostic Worksheet is provided in the NBCCEDP Policies and Procedures Manual, Section IV, pages 21-25. An electronic version of the Screening and Diagnostic Worksheet, an EXCEL spreadsheet, may be obtained through the program technical assistance contact listed in Section L. “Where to Obtain Additional Information.’ ” Replace with “The applicant should submit a completed Clinical Costs Worksheet (Attachment E— “Clinical Costs Worksheet” in the appendices) which is used as a standardized tool to estimate clinical and other direct service costs for your program. An electronic version of the Clinical Costs Worksheet, an EXCEL spreadsheet, and a related MSWord document with definitions may be obtained through the program technical assistance contact listed in Section L. “Where to Obtain Additional Information.”

Page 19942, section H.4.a.(6)(a), first column, replace “Attachment G” with “Attachment F”.

Page 19942, second column, after section H.4.a.(6)(b), add section H.4.a.(6)(c) to read “Provide an itemized list of other non-Federal sources of funds, (appropriated, donated, and/or in-kind) by source, that are used to support NBCCEDP staffing and/or allowable direct services (i.e., screening, diagnostic services, case management) to women for the past two budget periods (9/30/2002-6/29/2003 and 6/30/2003-6/29/2004). Indicate the amount anticipated from these or other sources for the upcoming budget period (6/30/2004-6/29/2005). If any part of the non-Federal sources of funds are used to meet the matching requirement for the NBCCEDP, please indicate the source and the amount that is included in the match for each budget period (See Attachment G— “Additional Non-Federal Funds Chart” in the appendices).

Page 19943, section H.5.d., third column, first partial sentence, delete the “.” And add “(See Attachment H—Workplan Templates A&B).”

Page 19949, section J.1.a.(4)(b), second column, amended in Amendment 2 to read, “An example that demonstrates the impact of the NBCCEDP, and updated list of the screening and diagnostic procedures paid for by the program, the amount paid and the maximum amount allowed by Medicare within the State. Also include an updated letter of assurance regarding Medicaid coverage for CBE, screening mammograms, Pap smears and pelvic exams.”, add the following, “NBCCEDP recipients are required to submit the NBCCEDP Minimum Data Elements (MDEs) to CDC semiannually on October 15 and April 15 and the System for Technical Assistance Reporting (STAR) data once annually on October 30 to CDC—OMB Control No. 0920-0571.”

Dated: January 12, 2004.
Edward J. Schultz,
Acting Director, Procurement and Grants Office, Centers for Disease Control and Prevention.

[FR Doc. 04-1094 Filed 1-16-04; 8:45 am]

BILLING CODE 4163-18-P